DEPARTMENT OF HOUSING AND URBAN DEVELOPMENT

[Docket No. FR-5217-N-02]

Notice of Regulatory Waiver Requests Granted for the Second Quarter of Calendar Year 2008

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2008 and ending on June 30, 2008.

FOR FURTHER INFORMATION CONTACT: For general information about this notice, contact Camille E. Acevedo, Associate General Counsel for Legislation and Regulations, Department of Housing and Urban Development, 451 Seventh Street, SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the second quarter of calendar year 2008.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2008 through June 30, 2008. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2008) before the next report is published (the third quarter of calendar year 2008), HUD will include any additional waivers granted for the second quarter in the next report.

Accordingly, information about approved waiver requests pertaining to HUD regulations is provided in the Appendix that follows this notice.

Dated: September 15, 2008.
Robert M. Couch,
General Counsel.

Appendix—Listing of Waivers of Regulatory Requirements Granted by Offices of the Department of Housing and Urban Development April 1, 2008 Through June 30, 2008

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The Lakeview Family Apartments project is a multifamily farm labor housing project in Roberts, Idaho. The project consists of 23 units of multifamily housing and a community building for classes, training, recreation, and a computer lab for residents. Idaho Housing Finance Association requested a waiver to allow the use of $1,057,490 in HOME Investment Partnership (HOME) Program funds. Property was acquired prior to the performance of an environmental review.

Nature of Requirement: The regulation requires that an environmental review be performed and a request for release of funds be completed and certified prior to the commitment of non-HUD funds to a project using HUD funds.

Granted by: Nelson R. Bregón, General Deputy Assistant Secretary for Community Planning and Development.

Date Granted: May 28, 2008.

Reason Waived: The waiver was granted based on the following findings: The project furthered the objective of providing community development and affordable housing; the errors made in the environmental process for the commitment of non-HUD funds were made in good faith; and an environmental assessment concluded that the granting of the waiver will not result in any adverse environmental impact.

Contact: Danielle Schopp, Office of Environment and Energy, Office of Community Planning and Development, Department of Housing and Urban Development, 451 Seventh Street, SW., Room 7250, Washington, DC 20410-7000, telephone (202) 402-4442.

• Regulations: 24 CFR 92.300(a)(1).

Project/Activity: The City of Spokane, Washington, requested a waiver to allow it to provide a HOME community housing development organization (CHDO) set-aside funds to a limited liability company (LLC) that has a qualified CHDO as its sole managing partner in order to purchase and renovate affordable rental housing in downtown Spokane.

Nature of Requirement: The HOME regulation at 24 CFR 92.300(a)(1) permits a participating jurisdiction to award CHDO set-aside funds to limited partnerships that include a qualified CHDO as the managing partner. LLCs are not an allowable form of CHDO project ownership in the HOME Regulation.

Granted by: Nelson R. Bregón, General Deputy Assistant Secretary for Community Planning and Development.

Date Granted: April 28, 2008.

Reasons Waived: Spokane Housing Ventures (SHV) is a local nonprofit organization that is designated as a CHDO by the City of Spokane. SHV plans to purchase and renovate the Bel Franklin Apartments in downtown Spokane, and the financing is to include HOME CHDO set-aside funds and Low-Income Housing Tax Credits (LIHTC). To facilitate the LIHTC financing, SHV formed the Bel Franklin Apartments LLC (LLC). SHV is the sole member of the LLC with 100 percent ownership of the project. The City sought to provide HOME CHDO set-aside funds to the LLC. LLCs are not an allowable form of CHDO project ownership in the HOME regulations. The City, the CHDO and the LLC have agreed that SHV would be the sole managing member of the Bel Franklin Apartments LLC when the tax credit investors are brought into the transaction and have effective project control over its operation. Ownership would revert to SHV at the end of the 15-year tax compliance period. SHV is to serve as the project developer and property manager. Both SHV and the LLC will be bound by the provisions of the HOME regulations and the partnership operating agreement.

Contact: Virginia Sardone, Office of Affordable Housing Programs, Office of Community Planning and Development, Department of Housing and Urban Development, 451 Seventh Street, SW., Room 7154, Washington, DC 20410, telephone (202) 708-2470.

• Regulations: 24 CFR 92.500(d)(1)(C).

Project/Activity: The City of Alexandria, Louisiana, requested a waiver of its fiscal year (FY) 2003 expenditure deadline to facilitate its continued recovery from the devastation caused by Hurricanes Katrina and Rita. The City is located within a declared disaster area pursuant to Title IV of the Robert T. Stafford Disaster Relief and Emergency Assistance Act.

Nature of Requirement: 24 CFR 92.500(d)(1)(C) requires that a PJ expend its annual allocation of HOME funds within five years after HUD notifies the PJ that HUD has executed the jurisdiction's HOME Investment Partnership Agreement.

Granted by: Nelson R. Bregón, General Deputy Assistant Secretary for Community Planning and Development.

Date Granted: July 1, 2008.

Reasons Waived: It was determined that the waiver would facilitate the continued recovery of the City of Alexandria from the devastation caused by Hurricane Katrina and Hurricane Rita. The waiver ensures that needed HOME funds are not de-obligated and are available to pay for costs incurred for projects to which HOME funds have already been committed.

Contact: Virginia Sardone, Office of Affordable Housing Programs, Office of Community Planning and Development, Department of Housing and Urban Development, 451 Seventh Street, SW., Room 7154, Washington, DC 20410-7000, telephone (202) 708-2470.

II. Regulatory Waivers Granted by the Office of Housing—Federal Housing Administration (FHA)

For further information about the following regulatory waivers, please see the name of the contact person that immediately follows the description of the waiver granted.

• Regulation: 24 CFR 203.37a(b)(2).

Project/Activity: FHA-insured properties in certain areas that have been foreclosed.

Nature of Requirement: The regulations at 24 CFR 203.37a(b)(2) require a 90-day waiting period for re-sales of properties to be eligible for FHA-insured mortgage financing with certain categorical exceptions. This waiver requested pertains to existing exemptions of those properties foreclosed on by mortgagees, their subsidiaries, as well as vendors hired by exempt entities to sell their real estate owned.

Granted by: Brian D. Montgomery, Assistant Secretary for Housing-Federal Housing Commissioner.

Date Granted: June 9, 2008.

Reason Waived: It was determined that waiving the regulations would allow properties acquired by foreclosure by FHA-approved mortgagees to become eligible for FHA-insured financing during the 90-day period. The waiver reduces holding costs to mortgage lenders and lessens the likelihood of property value deterioration to adjoining and near-by properties as well as to the properties acquired by foreclosure.

Contact: James Beavers, Deputy Director, Office of Single Family Program Development, Office of Housing, Department of Housing and Urban Development, 451 Seventh St., SW., Room 9166, Washington, DC 20410-8000, telephone (202) 708-2121.

• Regulation: 24 CFR 203.41(b).

Project/Activity: Chequamegon Village, Bozeman, Montana, being purchased by two member family.

Nature of Requirement: Section 203.41(b) of the FHA regulations in 24 CFR part 203 provides that the mortgage shall not be eligible for insurance if the mortgaged property is subject to legal restrictions on conveyance (except as otherwise permitted under the regulations). Properties at Chequamegon Village contain legal restrictions limiting ownership to occupant mortgagors, covenants that would remain in force even if FHA acquired the property as the result of a foreclosure. This deed restriction could limit the potential pool of possible buyers and/or reduce the proceeds of sale should FHA need to sell the property.

Granted by: Brian D. Montgomery, Assistant Secretary for Housing-Federal Housing Commissioner.

Date Granted: May 21, 2008.

Reason Waived: The mortgage loan proposed for the family would be in an amount that represents approximately 62% loan to value ratio. Because of the large amount of equity in the property (38%), it is unlikely that FHA would incur a claim for benefits and if it did, it is unlikely FHA would suffer a loss. The waiver was determined necessary so that the family could obtain a Montana Board of Housing Disabled Accessible Affordable Mortgage at 2.75% financing.

Contact: James Beavers, Deputy Director, Office of Single Family Program Development, Office of Housing, Department of Housing and Urban Development, 451 Seventh St., SW., Room 9166, Washington, DC 20410-8000, telephone (202) 708-2121.

• Regulation: 24 CFR 236.725(e)(2).

Project/Activity: Brookdale Village, Far Rockaway Queens, New York—FHA Project Number 012-119NI/012-11023. A request was made for continuation of Rental Assistance Payments (RAP) after the payoff of the original non-insured Section 236 mortgage under a Section 236(e)(2) Decoupling transaction.

Nature of Requirement: Section 236.725 of the FHA regulations in 24 CFR part 236 relates to rental assistance contracts, limiting such contracts to the term of the mortgage or 40 years from the date of the first payment made under the contract, whichever is the lesser.

Granted by: Brian D. Montgomery, Assistant Secretary for Housing—Federal Housing Commissioner.

Date Granted: June 20, 2008.

Reason Waived: This waiver was granted because it was determined that the project would be maintained as an affordable housing resource to the maturity date of the non-insured Section 236 mortgage plus an additional five years, through the execution and recording of a Decoupling Use Agreement. This waiver was predicated on the fact that the Decoupling proposal would not request an increase in the Section 236 units, and therefore the rental assistance payment (RAP) subsidy would not increase as a result. Future RAP increases would be based on budget driven project operating cost increases that would not include any new debt service costs attributable to the decoupling transaction. The waiver was also based on the fact that the project owner enter into a Decoupling Use Restriction Agreement prescribed by the Section 236(e)(2) Decoupling program.

Contact: Beverly J. Miller, Director, Office of Asset Management, Office of Housing, Department of Housing and Urban Development, 451 Seventh Street, SW., Washington, DC 20410-8000, telephone (202) 708-3730.

• Regulation: 24 CFR 290.30(a).

Project/Activity: 1775 Houses, New York, New York—FHA Project Numbers 012-57005P and 012-57005T, and AK Houses, New York, New York—FHA Project Numbers 012-57082P and 012-57082T. The owners requested prepayment approval of their two respective HUD-Held mortgages. In addition, the owners requested HUD to assign the mortgages to the purchasing entity's new mortgagee for mortgage recording tax savings in the state of New York.

Nature of Requirement: HUD's regulations governing the sale of HUD-Held mortgages are set forth in 24 CFR part 290, subpart B. Section 290.30(a) of those regulations state that “[e]xcept as otherwise provided in Section 290.31(a)(2), HUD will sell HUD-Held multifamily mortgages on a competitive basis.” Section 290.31(a)(2) permits “negotiated” sales to state or local governments for mortgage loans that are current and secured by subsidized projects, provided such loans are sold with FHA insurance.

Granted by: Brian D. Montgomery, Assistant Secretary for Housing—Federal Housing Commissioner.

Date Granted: June 13, 2008.

Reason Waived: Waiver of the regulations covering the sale of HUD-Held mortgages to allow the non-competitive sale of the HUD-Held mortgages securing the project with FHA insurance was approved. Good cause was shown that it is in the public interest and consistent with HUD's objectives to waive the appropriate regulations in order to permit the noncompetitive sale to Prudential Affordable Mortgage Company. Prudential Affordable Mortgage Company will pay HUD in full for all loan balances.

Contact: Beverly J. Miller, Director, Office of Asset Management, Office of Housing, Department of Housing and Urban Development, 451 Seventh Street, SW., Washington, DC 20410-7000, telephone (202) 708-3730, extension 2598.

• Regulation: 24 CFR 891.100(d).

Project/Activity: Montachusett Ayer Senior Housing, Boston, MA, Project Number: 023-EE209.

Nature of Requirement: Section 891.100(d) prohibits amendment of the amount of the approved capital advance funds prior to closing.

Granted by: Brian D. Montgomery, Assistant Secretary for Housing—Federal Housing Commissioner.

Date Granted: April 10, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Liberty Place Apartments, Erie County, PA, Project Number: 033-HD100.

Nature of Requirement: Section 891.100(d) prohibits amendment of the amount of the approved capital advance funds prior to closing.

Granted by: Brian D. Montgomery, Assistant Secretary for Housing—Federal Housing Commissioner.

Date Granted: April 17, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Bay Minette VOA Housing, Inc., Birmingham, AL, Project Number: 062-HD061.

Nature of Requirement: Section 891.100(d) prohibits amendment of the amount of the approved capital advance funds prior to closing.

Granted by: Brian D. Montgomery, Assistant Secretary for Housing—Federal Housing Commissioner.

Date Granted: April 18, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Dauphin County VOA Living Center, Philadelphia, PA, Project Number: 034-HD087.

Nature of Requirement: Section 891.100(d) prohibits amendment of the amount of the approved capital advance funds prior to closing.

Granted by: Brian D. Montgomery, Assistant Secretary for Housing—Federal Housing Commissioner.

Date Granted: April 18, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Disciples Village II, Odessa, Fort Worth, TX, Project Number: 113-EE059.

Nature of Requirement: Section 891.100(d) prohibits amendment of the amount of the approved capital advance funds prior to closing.

Granted by: Brian D. Montgomery, Assistant Secretary for Housing—Federal Housing Commissioner.

Date Granted: April 23, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Osmundsen Court, Little Rock, AR, Project Number: 082-HD091/AR37Q061001.

Nature of Requirement: Section 891.100(d) prohibits amendment of the amount of the approved capital advance funds prior to closing.

Granted by: Brian D. Montgomery, Assistant Secretary for Housing-Federal Housing Commissioner.

Date Granted: April 25, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Russellville Senior Housing, Russellville, KY, Project Number: 083-EE102-NP-WAH/KY36-S061-004.

Nature of Requirement: Section 891.100(d) prohibits amendment of the amount of the approved capital advance funds prior to closing.

Granted by: Brian D. Montgomery, Assistant Secretary for Housing—Federal Housing Commissioner.

Date Granted: April 25, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Sayre Christian Village Apartments II, Lexington, KY, Project Number: 083-EE101-NP-WAH/KY36-S061-003.

Nature of Requirement: Section 891.100(d) prohibits amendment of the amount of the approved capital advance funds prior to closing.

Granted by: Brian D. Montgomery, Assistant Secretary for Housing—Federal Housing Commissioner.

Date Granted: April 25, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: La Casa De Ampi, San Juan, PR, Project Number: 056-HD027.

Nature of Requirement: Section 891.100(d) prohibits amendment of the amount of the approved capital advance funds prior to closing.

Granted by: Brian D. Montgomery, Assistant Secretary for Housing—Federal Housing Commissioner.

Date Granted: May 6, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Bentley Woods, Columbus, OH, Project Number: 046-EE088.

Nature of Requirement: Section 891.100(d) prohibits amendment of the amount of the approved capital advance funds prior to closing.

Granted by: Brian D. Montgomery, Assistant Secretary for Housing—Federal Housing Commissioner.

Date Granted: May 7, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Pecan Grove Apartments, Little Rock, AR, Project Number: 082-HD095.

Nature of Requirement: Section 891.100(d) prohibits amendment of the amount of the approved capital advance funds prior to closing.

Granted by: Brian D. Montgomery, Assistant Secretary for Housing—Federal Housing Commissioner.

Date Granted: May 7, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Warren-Yazoo Mental Health Services, Vicksburg, MS, Project Number: 065-HD037.

Nature of Requirement: Section 891.100(d) prohibits amendment of the amount of the approved capital advance funds prior to closing.

Granted by: Brian D. Montgomery, Assistant Secretary for Housing—Federal Housing Commissioner.

Date Granted: May 13, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: SCARC Residential Expansion Project, Newark, NJ, Project Number: 031-HD151.

Nature of Requirement: Section 891.100(d) prohibits amendment of the amount of the approved capital advance funds prior to closing.

Granted by: Brian D. Montgomery, Assistant Secretary for Housing—Federal Housing Commissioner.

Date Granted: May 14, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: The Maples Apartments, Kansas City, KS, Project Number: 084-HD055.

Nature of Requirement: Section 891.100(d) prohibits amendment of the amount of the approved capital advance funds prior to closing.

Granted by: Brian D. Montgomery, Assistant Secretary for Housing—Federal Housing Commissioner.

Date Granted: May 14, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Prospect Manor, Nashville, TN, Project Number: 086-HD037.

Nature of Requirement: Section 891.100(d) prohibits amendment of the amount of the approved capital advance funds prior to closing.

Granted by: Brian D. Montgomery, Assistant Secretary for Housing—Federal Housing Commissioner.

Date Granted: May 20, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Village of Hope, Nashville, TN, Project Number: 086-HD038.

Nature of Requirement: Section 891.100(d) prohibits amendment of the amount of the approved capital advance funds prior to closing.

Granted by: Brian D. Montgomery, Assistant Secretary for Housing—Federal Housing Commissioner.

Date Granted: May 20, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Disciples Village II, Odessa, TX, Project Number: 113-EE059/TX16S061006.

Nature of Requirement: Section 891.100(d) prohibits amendment of the amount of the approved capital advance funds prior to closing.

Granted by: Brian D. Montgomery, Assistant Secretary for Housing—Federal Housing Commissioner.

Date Granted: May 21, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: NewLife Home 6, Albuquerque, NM, Project Number: 116-HD032/NM16Q071001.

Nature of Requirement: Section 891.100(d) prohibits amendment of the amount of the approved capital advance funds prior to closing.

Granted by: Brian D. Montgomery, Assistant Secretary for Housing—Federal Housing Commissioner.

Date Granted: May 22, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Odenton Senior Housing II, Odenton, MD, Project Number: 052-EE056.

Nature of Requirement: Section 891.100(d) prohibits amendment of the amount of the approved capital advance funds prior to closing.

Granted by: Brian D. Montgomery, Assistant Secretary for Housing—Federal Housing Commissioner.

Date Granted: May 28, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Southern Hills Senior Residences, Wichita, KS, Project Number: 102-EE029.

Nature of Requirement: Section 891.100(d) prohibits amendment of the amount of the approved capital advance funds prior to closing.

Granted by: Brian D. Montgomery, Assistant Secretary for Housing—Federal Housing Commissioner.

Date Granted: May 28, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: TCOA Elderly Housing, Fort Worth, TX, Project Number: 064-EE205.

Nature of Requirement: Section 891.100(d) prohibits amendment of the amount of the approved capital advance funds prior to closing.

Granted by: Brian D. Montgomery, Assistant Secretary for Housing—Federal Housing Commissioner.

Date Granted: June 5, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Dauphin County VOA Living Center, Harrisburg, PA, Project Number: 034-HD087.

Nature of Requirement: Section 891.100(d) prohibits amendment of the amount of the approved capital advance funds prior to closing.

Granted by: Brian D. Montgomery, Assistant Secretary for Housing—Federal Housing Commissioner.

Date Granted: June 12, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Benedictine Manor II, Jonesboro, AR, Project Number: 082-EE176.

Nature of Requirement: Section 891.100(d) prohibits amendment of the amount of the approved capital advance funds prior to closing.

Granted by: Brian D. Montgomery, Assistant Secretary for Housing—Federal Housing Commissioner.

Date Granted: June 13, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Peachtree III, Columbus, OH, Project Number: 042-HD137.

Nature of Requirement: Section 891.100(d) prohibits amendment of the amount of the approved capital advance funds prior to closing.

Granted by: Brian D. Montgomery, Assistant Secretary for Housing—Federal Housing Commissioner.

Date Granted: June 13, 2008.

Reason Waived: The project is economically designed and comparable in cost to similar projects in the area, and the sponsor/owner exhausted all efforts to obtain additional funding from other sources.

Contact: Willie Spearmon, Director, Office of Housing Assistance and Grant 77Administration, Office of Housing, Department of Housing and Urban Development, 451 Seventh Street, SW., Room 6134, Washington, DC 20410-8000, telephone (202) 708-3000.

• Regulation: 24 CFR 891.100(d).

Project/Activity: Living Solutions II, Mora, MN, Project Number: 092-EE123.

Nature of Requirement: Section 891.100(d) prohibits amendment of the amount of the approved capital advance funds prior to closing.

Granted by: Brian D. Montgomery, Assistant Secretary for Housing—Federal Housing Commissioner.

Date Granted: June 13, 2008.

Reason Waived: The project is economically designed and comparable in cost to similar projects in the area, and the sponsor/owner exhausted all efforts to obtain additional funding from other sources.

Contact: Willie Spearmon, Director, Office of Housing Assistance and Grant Administration, Office of Housing. Department of Housing and Urban Development, 451 Seventh Street, SW., Room 6134, Washington, DC 20410-8000, telephone (202) 708-3000.

• Regulation: 24 CFR 891.100(d).

Project/Activity: Benedictine Manor I, Little Rock, AR, Project Number: 082-EE175.

Nature of Requirement: Section 891.100(d) prohibits amendment of the amount of the approved capital advance funds prior to closing.

Granted by: Brian D. Montgomery, Assistant Secretary for Housing—Federal Housing Commissioner.

Date Granted: June 13, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Eaton Place, Franklin, MA, Project Number: 023-EE198.

Nature of Requirement: Section 891.100(d) prohibits amendment of the amount of the approved capital advance funds prior to closing.

Granted by: Brian D. Montgomery, Assistant Secretary for Housing—Federal Housing Commissioner.

Date Granted: June 18, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Robin's Terrace, Columbus, OH, Project Number: 042-EE201.

Nature of Requirement: Section 891.100(d) prohibits amendment of the amount of the approved capital advance funds prior to closing.

Granted by: Brian D. Montgomery, Assistant Secretary for Housing—Federal Housing Commissioner.

Date Granted: June 23, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.120(c).

Project/Activity: Red Lake Homeless Shelter, Minneapolis, MN, Project Number: 092-HD069/MN46Q061002.

Nature of Requirement: Section 891.120(c) the use of HUD funding to cover the cost of acquisition and/or related operating expenses for excess amenities.

Granted by: Brian D. Montgomery, Assistant Secretary for Housing—Federal Housing Commissioner.

Date Granted: May 9, 2008.

Reason Waived: The regulation was waived because the project consists of scattered sites that are located in areas not easily accessible to laundry facilities and weather conditions in Northern Minnesota can be extremely severe during the winter months.

Contact: Willie Spearmon, Director, Office of Housing Assistance and Grant Administration, Office of Housing, Department of Housing and Urban Development, 451 Seventh Street, SW., Room 6134, Washington, DC 20410-8000, telephone (202) 708-3000.

• Regulation: 24 CFR 891.130(a).

Project/Activity: Mohr Place II, Kansas City, KS, Project Number: 102-EE028.

Nature of Requirement: Section 891.130(a) permits the sponsor to sell the site for the subject project to the owner.

Granted by: Brian D. Montgomery, Assistant Secretary for Housing—Federal Housing Commissioner.

Date Granted: April 8, 2008.

Reason Waived: HUD no longer considers a relationship involving a land sale transaction between the sponsor and its affiliated owner to be a prohibited relationship. The regulations are to be revised reflect this as a permissible relationship.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Deer Creek Manor, Chicago, IL, Project Number: 072-EE161.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 2, 2008.

Reason Waived: The project experienced delays while the sponsor/owner located a contractor. Additional time was needed for the firm commitment to be processed and the sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Candice Homes, Chicago, IL, Project Number: 071-HD153.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 2, 2008.

Reason Waived: The project experienced delays while the sponsor/owner located a new site. Additional time was needed for the firm commitment to be processed and the sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Clovernook Housing, Columbus, OH, Project Number: 046-HD033.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 3, 2008.

Reason Waived: The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Aliff Place, Charleston, WV, Project Number: 045-HD040.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 11, 2008.

Reason Waived: Additional time was needed for the submittal and review of the closing documents and the sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Vesta Severn, Baltimore, MD, Project Number: 052-HD069.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 17, 2008.

Reason Waived: The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Casa Grande Senior Housing, San Francisco, CA, Project Number: 121-EE196.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 23, 2008.

Reason Waived: Additional time was needed for this mixed finance project to complete the cost certification process, meet tax limited partner requirements, and the sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Peachtree III, Cuyahoga Falls, OH, Project Number: 042-HD137.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 25, 2008.

Reason Waived: The sponsor/owner required additional time to prepare for initial closing, and additional time was needed for the firm commitment to be issued.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Robins Terrace, Columbus, OH, Project Number: 042-EE201.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 25, 2008.

Reason Waived: The sponsor/owner required additional time to prepare for initial closing, and additional time was needed for the firm commitment application to be processed and issued.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Dauphin County VOA Living Center, Dauphin County, PA, Project Number: 034-HD087-CMI/PA26-Q051-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 1, 2008.

Reason Waived: The sponsor/owner required additional time to prepare for initial closing, and additional time was needed for the sponsor/owner to secure secondary funding.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Garrett House, Wilmington, DE, Project Number: 032-HD036-WPD/DE26-Q061-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 5, 2008.

Reason Waived: The sponsor/owner required additional time to prepare for initial closing, and additional time was needed for the firm commitment application to be processed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Haven Peniel Senior Citizens Residence, Philadelphia, PA, Project Number: 034-EE151/PA26-S061-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 5, 2008.

Reason Waived: The sponsor/owner required additional time to prepare for initial closing, and to resolve site contamination issues.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: The Village of St. Martha's, Detroit, MI, Project Number: 044-EE104.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 8, 2008.

Reason Waived: The project is economically designed and comparable in cost to similar projects in the area. The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Ken-Crest PA 2006, Philadelphia, PA, Project Number: 034-HD093-PDD/P26-Q061-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 9, 2008.

Reason Waived: The sponsor/owner required additional time to prepare for initial closing, and to resolve zoning issues.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Bank Street Apartments, Providence, RI, Project Number: 016-HD049.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 9, 2008.

Reason Waived: The sponsor/owner required additional time to prepare for initial closing, and to resolve litigation issues with the Town Council.

Contact: Willie Spearmon, Director, Office of Housing Assistance and Grant Administration, Office of Housing, Department of Housing and Urban Development, 451 Seventh Street, SW., Room 6134, Washington, DC 20410-8000, telephone (202) 708-3000.

• Regulation: 24 CFR 891.165

Project/Activity: Woodside Village Apartments, Cleveland, OH, Project Number: 042-HD112.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 14, 2008.

Reason Waived: The sponsor/owner required additional time to prepare for initial closing, and to resubmit the design change to the local plan board for approval and to resubmit the firm commitment.

Contact: Willie Spearmon, Director, Office of Housing Assistance and Grant Administration, Department of Housing and Urban Development, 451 Seventh Street, SW., Room 6134, Washington, DC 20410-8000, telephone (202) 708-3000.

• Regulation: 24 CFR 891.165.

Project/Activity: The Meadows, Providence, RI, Project Number: 016-EE046.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 14, 2008.

Reason Waived: The mixed-finance project needs additional time to close.Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: TBD, Warwick, RI, Project Number: 016-EE059.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 14, 2008.

Reason Waived: The sponsor/owner required additional time to prepare for initial closing, and to finalize the plans and specifications based on the new site.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Project Beginnings I, Akron & Lamemore Village, Cleveland, OH, Project Number: 042-HD129.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 6, 2008.

Reason Waived: The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Black Diamond Hope House, Philadelphia, PA, Project Number: 032-HD033.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 18, 2008.

Reason Waived: The sponsor/owner required additional time to prepare for initial closing, and additional time was needed to review initial closing documents.

Contact: Willie Spearmon, Director, Office of Housing Assistance and Grant Administration, Office of Housing, Department of Housing and Urban Development, 451 Seventh Street, SW., Washington, DC 20410-8000, telephone (202) 708-3000.

• Regulation: 24 CFR 891.100(d) & 24 CFR 891.165

Project/Activity: Webb Avenue Senior Housing, New York, NY, Project Number: 012-EE335.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 8, 2008

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) & 24 CFR 891.165.

Project/Activity: Moffat Gardens Senior Housing, New York, NY, Project Number: 012-EE333.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: April 22, 2008.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) & 24 CFR 891.165.

Project/Activity: Miller Road Group Home, Boston, MA, Project Number: 023-HD179.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: May 15, 2008.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) & 24 CFR 891.165.

Project/Activity: Webster Street Residence, Boston, MA

Project Number: 023-HD200/ MA06Q031008.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 18, 2008.

Reason Waived: The project is economically designed and comparable to similar projects in the area, and the sponsor/owner exhausted all efforts to obtain additional funding from other sources. The sponsor/owner required additional time to prepare for initial closing.

Contact: Willie Spearmon, Director, Office of Housing Assistance and Grant

Administration, Office of Housing, Department of Housing and Urban Development, 451 Seventh Street, SW., Room 6134, Washington, DC 20410-8000, telephone (202) 708-3000.

• Regulation: 24 CFR 891.100(d) & 24 CFR 891.165.

Project/Activity: Epworth Manor II, Richmond, VA, Project Number: 051-EE104.

Nature of Requirement: Section 891.100(d) prohibits amendment of the amount of the approved capital advance funds prior to closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 20, 2008.

Reason Waived: The project is economically designed and comparable in cost to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street SW., Room 6134 Washington, DC 20410-8000, telephone (202) 708-3000.

• Regulation: 24 CFR 891.100(d) & 24 CFR 891.165.

Project/Activity: Emerson Manor II, Boston, MA, Project Number: 023-EE170.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 20, 2008.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) & 24 CFR 891.165.

Project/Activity: AP's Apartments, Exmore,VA, Project Number: 051-HD134.

Nature of Requirement: Section 891.100(d) prohibits amendment of the amount of the approved capital advance funds prior to closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: June 25, 2008.

Reason Waived: The project is economically designed and comparable in cost to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134 Washington, DC 20410-8000, telephone (202) 708-3000.

• Regulation: 24 CFR 891.205.

Project/Activity: AHEPA Bloomington, Bloomington, MN, Project Number: 092-EE127.

Nature of Requirement: Section 891.205 requires Section 202 and Section 811 project owners to have tax exemption status under section 501(c)(3) or (c)(4) of the Internal Revenue Code (IRC).

Granted by: Brian D. Montgomery, Assistant Secretary for Housing—Federal Housing Commissioner.

Date Granted: May 8, 2008.

Reason Waived: The sponsor/owner had requested the section 501(c)(3) IRC tax exemption but had not received it in time for the initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Robbins Way Senior Housing, Robbinsdale, MN, Project Number: 092-EE129.

Nature of Requirement: Section 891.205 requires Section 202 and Section 811 project owners to have tax exemption status under section 501(c)(3) or (c)(4) of the IRC.

Granted by: Brian D. Montgomery, Assistant Secretary for Housing—Federal Housing Commissioner.

Date Granted: June 10, 2008.

Reason Waived: The sponsor/owner had requested the section 501(c)(3) IRC tax exemption but had not received it in time for the initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.410(c).

Project/Activity: Parker Heights Apartments, Parker City Borough, Pennsylvania, FHA Project Number 033-EE019. The owner/managing agent requested an extension of the very low-income restriction and elderly restriction waiver in order to permit admission of low-income elderly applicants.

Nature of Requirement: Section 891.410 addresses admission of families to projects for elderly or handicapped families that receive reservations under section 202 of the Housing Act of 1959, as amended by section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: April 15, 2008.

Reason Waived: The property contains 11 vacant units with no applicants on the waiting list. The property is located in a rural setting and the local housing market indicates that there is not sufficient demand for very low-income elderly housing. The owner/managing agent continues to aggressively market the property with the local housing authorities and various religious, social and community organizations. It was determined that granting the waiver would allow the owner/managing agent an opportunity to stabilize the project's current financial status, and prevent foreclosure. It also was determined that first priority would be given to all qualified applicants who meet the Section 202 very low-income guidelines.

Contact: Beverly J. Miller, Director, Office of Asset Management, Office of Housing, Department of Housing and Urban Development, 451 Seventh Street, SW., Room 6160, Washington, DC 20410-7000, telephone (202) 708-3730.

• Regulation: 24 CFR 891.410(c).

Project/Activity: Sunset Heights Apartments, Waukesha, Wisconsin, FHA, Project Number 075-EE036. The property is currently experiencing vacancy problems and high turnover rate at the 17-unit property.

Nature of Requirement: Section 891.410 addresses admission of families to projects for elderly or handicapped families that receive reservations under section 202 of the Housing Act of 1959, as amended by section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: May 6, 2008.

Reason Waived: This regulatory waiver was granted because if continued, the current vacancy and high turnover rates would cause financial hardship for the project. The owner/managing agent was unable to attract very low-income elderly persons. The owner/managing agent continues to aggressively market the property with the local housing authorities and news media. The waiver was granted to allow the owner the ability to offer units to individuals who meet the definition of lower income, near elderly, which should increase occupancy levels at the property and, therefore, stabilize the project's current financial status. It was determined that first priority would be given to all qualified eligible applicants who meet the Section 202 very low-income guidelines.

Contact: Beverly J. Miller, Director, Office of Asset Management, Office of Housing, Department of Housing and Urban Development, 451 Seventh Street, SW., Room 6160, Washington, DC 20410-7000, telephone (202) 708-3730.

• Regulation: 24 CFR 891.410(c).

Project/Activity: Pioneer Place III, Poynette, Wisconsin—FHA Project Number 075-EE010. This project continues to experience difficulty in leasing its units to very low-income elderly tenants.

Nature of Requirement: Section 891.410 addresses admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: May 12, 2008.

Reason Waived: The project experienced difficulty in renting its units since initial occupancy in April 1994. Currently 17 of 22 units are occupied, and there are no applicants that meet the age waiver criteria on the waiting list. The owner/managing agent continues to aggressively market the property with the Central Wisconsin Community Action Council and news media. The provisions of 24 CFR 891.410(c) were waived in order to allow the agent to lease to individuals between the ages of 55 and 62 years of age, thereby allowing the owner to increase occupancy and save the project from failing. Priority admission would continue for applicants who meet the Section 202 very low-income guidelines.

Contact: Beverly J. Miller, Director, Office of Asset Management, Office of Housing, Department of Housing and Urban Development, 451 Seventh Street, SW., Room 6160, Washington, DC 20410-8000, telephone (202) 708-3730.

• Regulation: 24 CFR 891.805.

Project/Activity: Serviam Gardens, New York, NY, Project Number: 012-EE353.

Nature of Requirement: Section 891.805 requires that the project owner be a single purpose for-profit limited partnership of which a private nonprofit organization with a section 501(c)(3) or 501(c)(4) tax exemption status is the sole general partner.

Granted by: Brian D. Montgomery, Assistant Secretary for Housing—Federal Housing Commissioner.

Date Granted: April 17, 2008.

Reason Waived: The sponsor requested that the sole general partner be a limited liability company with a single member under the New York Limited Liability Company Law and its membership interest will be owned by the sponsor. The organizational documents will prohibit private inurnment and private benefit, as do the sponsor's organizational documents. This will prevent the tax credit investor's return from being impacted by any portion of the capital advance monies being treated as taxable income.

Contact: Willie Spearmon, Director, Office of Housing Assistance and Grant Administration, Office of Housing, Department of Housing and Urban Development, 451 Seventh Street, SW., Room 6134, Washington, DC 20410-8000, telephone (202) 708-3000.

• Regulation: 24 CFR 891.805.

Project/Activity: Charleston Apartments, Seattle, WA, Project Number: 126-HD044.

Nature of Requirement: Section 891.805 requires that the project owner be a single purpose for-profit limited partnership of which a private nonprofit organization with a section 501(c)(3) or 501(c)(4) tax exemption status is the sole general partner.

Granted by: Brian D. Montgomery, Assistant Secretary for Housing—Federal Housing Commissioner.

Date Granted: June 5, 2008.

Reason Waived: The sponsor requested that the sole general partner be a limited liability company with a single member and its membership interest will be owned by the sponsor. The organizational documents will prohibit private inurnment and private benefit. Pursuant to Department of Treasury regulation section 301.7701-3(b)(1)(ii), a limited liability company has only one member and will be treated as a disregarded entity for federal tax purposes and its operations and finances will be treated as the operation and finances of the exempt organization.

Contact: Willie Spearmon, Director, Office of Housing Assistance and Grant Administration, Office of Housing, Department of Housing and Urban Development, 451 Seventh Street, SW., Room 6160, Washington, DC 20410-8000, telephone (202) 708-3000.

• Regulation: 24 CFR 891.830(b) & 24 CFR 891.830(c)(4).

Project/Activity: Charleston Apartments, Seattle, WA, Project Number: 126-HD044.

Nature of Requirement: Section 891.830(b) requires that capital advance funds be drawn down only in an approved ratio to other funds in accordance with a drawdown schedule approved by HUD. Section 891.830(c)(4) prohibits the capital advance funds from paying off bridge or construction financing, or repaying or collateralizing bonds.

Granted by: Brian D. Montgomery, Assistant Secretary for Housing—Federal Housing Commissioner.

Date Granted: April 17, 2008.

Reason Waived: In order to not delay the construction of this mixed finance project, the waiver was granted to permit the capital advance funds to be drawn down using a different mechanism other than a pro rata basis, as approved by HUD. However, the capital advance funds would not be drawn down any faster than a pro rata disbursement basis would have permitted. The owner sought to use the release of capital advance funding upon the completion of the project procedure, which recognizes a conventionally financed construction loan that would pay for many items that are eligible for capital advance funding. 891.830(c)(4)

Contact: Willie Spearmon, Director, Office of Housing Assistance and Grant Administration, Office of Housing, Department of Housing and Urban Development, 451 Seventh Street, SW., Room 6160, Washington, DC 20410-8000, telephone (202) 708-3000.

• Regulation: 24 CFR 891.830(c)(4).

Project/Activity: Lyons Place, Columbus, OH, Project Number: 046-EE078.

Nature of Requirement: Section 891.830(c)(4) prohibits the capital advance funds from paying off bridge or construction financing, or repaying or collateralizing bonds.

Granted by: Brian D. Montgomery, Assistant Secretary for Housing—Federal Housing Commissioner.

Date Granted: April 11, 2008.

Reason Waived: Since this is a mixed finance project, the waiver was granted to permit capital advance funds to be used to pay off that portion of a bridge or construction financing that strictly relate to capital advance eligible costs. Such costs are to be documented in the Owner's audited cost certification and approved by the Program Center as capital advance eligible.

Contact: Willie Spearmon, Director, Office of Housing Assistance and Grant Administration, Office of Housing, Department of Housing and Urban Development, 451 Seventh Street, SW., Room 6160, Washington, DC 20410-8000, telephone (202) 708-3000.

III. Regulatory Waivers Granted by the Office of Public and Indian Housing

For further information about the following regulatory waivers, please see the name of the contact person that immediately follows the description of the waiver granted.

• Regulation: 24 CFR 5.801.

Project/Activity: Brillion Housing Authority, (WI021), Brillion, WI.

Nature of Requirement: The regulation at 24 CFR 5.801 establishes certain reporting compliance dates. The audited financial statements are required to be submitted to the Real Estate Assessment Center (REAC) no later than 9 months after the housing authority's (HA) fiscal year end (FYE), in accordance with the Single Audit Act and OMB Circular A-133.

Granted by: Paula O. Blunt, General Deputy Assistant Secretary for Public and Indian Housing.

Date Granted: April 1, 2008.

Reason Waived: The HA requested a waiver of the due date date of September 30, 2008, for the submission of its audited financial data for FYE December 30, 2006. The HA submitted that the audited data was first submitted two days before the due date, but was rejected and not resubmitted on time due to severe illness of the HA's independent public accountant. The circumstances that prevented the HA from resubmitting the audited financial data by the due date were beyond the control of the HA. The waiver allowed the HA additional time to submit its audited financial data to the REAC.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 5.801.

Project/Activity: Housing Authority of Starr County, (TX396), Rio Grande City, TX.

Nature of Requirement: The regulation at 24 CFR 5.801 establishes certain reporting compliance dates. Unaudited financial statements are required to be submitted two months after the housing authority's (HA) fiscal year end (FYE), and audited financial statements are required to be submitted no later than nine months after the HA's FYE, in accordance with the Single Audit Act and OMB Circular A-133.

Granted by: Paula O. Blunt, General Deputy Assistant Secretary for Public and Indian Housing.

Date Granted: April 8, 2008.

Reason Waived: The HA requested a waiver for additional time to submit the audited financial data for FYE June 30, 2007 because the Starr County was declared a natural disaster area due to severe flooding. As a result, the HA had to relocate its office and rebuild their data files. The waiver allowed the HA additional time to submit its audited financial data to the Real Estate Assessment Center.

Contact: Myra E. Newbill, Acting Program Manager, NASS, Real Estate Assessment Center, Office of Public and Indian Housing, Office of Housing, Department of Housing and Urban Development, 550 12th Street., SW., Suite 100, Washington, DC 20410, telephone (202) 475-8988.

• Regulation: 24 CFR 5.801.

Project/Activity: New Jersey Department of Community Affairs, (NJ912), Trenton, NJ.

Nature of Requirement: The regulation at 24 CFR 5.801 establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: April 14, 2008.

Reason Waived: The HA requested a waiver of the audited financial reporting requirements for the FYE ending June 30, 2007. The HA stated that the U.S. Department of Health and Human Services, the cognizant agency for the State of New Jersey, approved a request for an extension in submitting their Single Audit until July 31, 2008. The waiver allowed the HA additional time to submit the audited financial data. The HA is a component unit of the State of New Jersey and should submit its audited financial data no later than July 31, 2008.

Contact: Myra E. Newbill, Acting Program Manager, NASS, Real Estate Assessment Center, Office of Housing, Office of Public and Indian Housing, Department of Housing and Urban Development, 550 12th Street, SW., Suite 100, Washington, DC 20410, telephone (202) 475-8988.

• Regulation: 24 CFR 5.801.

Project/Activity: Middletown Public Housing Agency, (OH065), Middletown, OH.

Nature of Requirement: The regulation at 24 CFR 5.801 establishes certain reporting compliance dates. Unaudited financial statements are required to be submitted two months after the housing authority's (HA) fiscal year end (FYE), and audited financial statements will be required no later than nine months after the HA's FYE, in accordance with the Single Audit Act and OMB Circular A-133.

Granted by: Paula O. Blunt, General Deputy Assistant Secretary for Public and Indian Housing.

Date Granted: May 9, 2008.

Reason Waived: The HA requested an extension of time to submit their audited financial data for FYE June 30, 2007. The HA is a Section 8-only-HA that is part of a larger general purpose government, the City of Middletown, Ohio whose FYE is December 31, 2007, and the HA's FYE is June 30, 2007. The HA requested that the FYE be changed to December 31, 2007, so that it would coincide with the FYE of the City. The waiver was granted because the HA followed proper procedures to ensure financial integrity. The HA is to submit its audited financial data for June 30, 2007, no later than September 30, 2008.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 5.801.

Project/Activity: Housing Authority of the Town of Haxtun (CO17), Haxton, CO.

Nature of Requirement: The regulation at 24 CFR 5.801 establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing

Date Granted: May 15, 2008.

Reason Waived: The HA requested an extension of time to submit their audited financial data for fiscal year ending (FYE) March 31, 2007. The HA states its audited financial submission was rejected by the REAC and had fifteen days to correct and resubmit the financial data. The HA states corrections were made and the auditor completed both first and second steps of the three-step audited submission process. However, the Executive Director was not able to complete the last submission step due to illness. The waiver was granted because REAC's records confirm that the HA's audited submission was in independent public accountant-agree status indicating the audit was completed and ready to be submitted.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Cincinnati Metropolitan Housing Authority, (OH004), Cincinnati, OH.

Nature of Requirement: The regulation at 24 CFR 5.801 establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: May 15, 2008.

Reason Waived: The HA states that the audit was completed, however, it was unable to submit it as a result of time-out and availability issues with HUD network servers. Consequently, the submission was not electronically submitted to REAC by the submission due date. The HA received a Late Presumptive Failure (LPF) score of zero. The waiver allowed the HA to resubmit its financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Dallas Housing Authority, (TX009), Dallas, TX.

Nature of Requirement: The regulation at 24 CFR 5.801 establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: May 16, 2008.

Reason Waived: The HA requested a waiver of its December 31, 2007, audited financial submission due date to procure the services of a new auditor. The HA expressed concerns over the quality of audits conducted by the previous audit firm as a result of recent Office of Inspector General audits. The waiver granted the HA a due date of December 31, 2008, for submission of audited financial data for FYE December 31, 2007.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Housing Authority of the City of Mishawaka, (IN020), Mishawaka, IN

Nature of Requirement: The regulation at 24 CFR 5.801 establishes certain reporting compliance dates. The audited financial statements are required to be submitted to the Real Estate Assessment Center (REAC) no later than nine months after the housing authority's (HA) fiscal year end (FYE), in accordance with the Single Audit Act and MB Circular A-133.

Granted by: Paula O. Blunt, General Deputy Assistant Secretary for Public and Indian Housing.

Date Granted: June 3, 2008.

Reason Waived: The HA requested a waiver of the audited financial submission date for the fiscal year ending June 30, 2007. The HA contends that its audited financial submission was rejected and the HA was given 15 days to correct and resubmit the financial data. The HA submitted that the corrections were made but due to communication error between the Executive Director and the Auditor, the submission was not electronically made to the REAC by the resubmission due date resulting in the HA receiving a Late Presumptive Failure (LPF) score of zero. The waiver granted the HA allowed the resubmission of the audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Arizona Department of Housing, (AZ901), Phoenix, AZ.

Nature of Requirement: The regulation at 24 CFR 5.801 establishes certain reporting compliance dates. The audited financial statements are required to be submitted no later than nine months after the housing authority's (HA) fiscal year end (FYE), in accordance with the Single Audit Act and OMB Circular A-133.

Granted by: Paula O. Blunt, General Deputy Assistant Secretary for Public and Indian Housing.

Date Granted: June 4, 2008.

Reason Waived: The HA requested additional time to submit its FY2007 audited financial data. Specifically, the HA's original waiver request dated February 28, 2008, was initially denied as a result of the State of Arizona's failure to have an A-133 audit performed by the Single Audit due date. The State of Arizona subsequently received an extension until June 30, 2008, from the cognizant audit agency. The HA was granted the waiver because the circumstances were beyond its control. The HA is to submit its audited financial data no later than July 5, 2008.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Fairfax County Redevelopment and Housing Authority, (VA019), Fairfax, VA.

Nature of Requirement: The regulation at 24 CFR 5.801 establishes certain reporting compliance dates. The audited financial statements are required to be submitted to the Real Estate Assessment Center (REAC) no later than nine months after the housing Authority's (HA) fiscal year end (FYE), in accordance with the Single Audit Act and OMB Circular A-133.

Granted by: Paula O. Blunt, General Deputy Assistant Secretary for Public and Indian Housing

Date Granted: June 4, 2008.

Reason Waived: The HA requested a waiver of its audited financial submission for the fiscal year ending June 30, 2007. The HA submitted that its audited financial submission was rejected and the HA was given 15 days to correct and resubmit the financial data. The HA submitted that as a result of a communication error with their finance division, the submission was not electronically submitted to the REAC by the resubmission due date resulting in the HA receiving a Late Presumptive Failure (LPF) score of zero. The waiver allowed the HA to resubmit its audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Housing Authority of Snohomish County, (WA039), Everett, WA

Nature of Requirement: The regulation at 24 CFR 5.801 establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: June 10, 2008.

Reason Waived: The HA requested a waiver of its audited financial submission for the fiscal year ending June 30, 2007. The HA submitted that its audited financial submission was rejected and the HA was given 15 days to correct and resubmit the financial data. The HA submitted that the corrections were made, however, as a result of a communication error with the auditor, the agreed upon procedures were not complete causing the financial submission not to be electronically submitted to the REAC by the resubmission due date. The waiver allowed the HA to resubmit its audited financial statements for FYE June 30, 2007.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Alamosa Housing Authority, (CO004), Alamosa, CO.

Nature of Requirement: The regulation at 24 CFR 5.801 establishes certain reporting compliance dates. The audited financial statements are required to be submitted to the Real Estate Assessment Center (REAC) no later than nine months after the housing Authority's (HA) fiscal year end (FYE), in accordance with the Single Audit Act and OMB Circular A-133.

Granted by: Paula O. Blunt, General Deputy Assistant Secretary for Public and Indian Housing.

Date Granted: June 9, 2008.

Reason Waived: The HA's original waiver request dated December 12, 2007, was initially granted with a financial submission due date of February 29, 2008, for its FYE March 31, 2007. The HA requested additional time to finalize their audit. The HA submitted that the HA was granted a waiver as a result of investigations conducted by the Inspector General's office. However, the auditors still had not received the needed information from the Inspector General. The HA requested additional time to allow the auditors to finalize the audit. The HA was allowed to submit its audited financial data for FYE March 31, 2007, no later than May 31, 2007.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Housing Authority of the City of Ogden, (UT002), Ogden, UT

Nature of Requirement: The regulation at 24 CFR 5.801 establishes certain reporting compliance dates. The audited financial statements are required to be submitted to the Real Estate Assessment Center (REAC) no later than nine months after the housing Authority's (HA) fiscal year end (FYE), in accordance with the Single Audit Act and OMB Circular A-133.

Granted by: Paula O. Blunt, General Deputy Assistant Secretary for Public and Indian Housing.

Date Granted: June 9, 2008.

Reason Waived: The HA requested a waiver of its audited financial submission due date for FYE June 30, 2007. The HA submitted that its audited financial submission was rejected and the HA was given 15 days to correct and resubmit the financial data. The HA submitted that the corrections were made, however, as a result of a communication error between the HA and the auditor, the financial submission was not electronically submitted to PIH REAC by the resubmission due date and the HA received a Late Presumptive Failure (LPF) score of zero. The HA was granted the waiver of the audited financial submission due date. The HA was allowed to resubmit its audited financial submission for FYE June 30, 2007.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Illinois Department of Commerce and Economic Opportunity, (IL911), Chicago, IL.

Nature of Requirement: The regulation at 24 CFR 5.802 establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: June 10, 2008.

Reason Waived: The HA requested additional time to submit their audited financial data for fiscal year ending (FYE) June 30, 2007. The HA stated that the U.S. Department of Health and Human Services, the cognizant agency for the State of Illinois, approved a request for an extension in submitting their Single Audit until June 30, 2008. The waiver was granted and the HA was charged with making an invalidation request and including a date of resubmission of its audited financial data that would be no later than July 05, 2008. The waiver allowed the HA additional time to submit its audited financial data to the REAC.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Round Rock Housing Authority, (TX322), Round Rock, TX.

Nature of Requirement: The regulation at 24 CFR 5.801 establishes certain reporting compliance dates. The audited financial statements are required to be submitted to the Real Estate Assessment Center (REAC) no later than nine months after the housing Authority's (HA) fiscal year end (FYE), in accordance with the Single Audit Act and OMB Circular A-133.

Granted by: Paula O. Blunt, General Deputy Assistant Secretary for Public and Indian Housing.

Date Granted: June 13, 2008.

Reason Waived: The HA requested a waiver of its audited financial submission due date for FYE June 30, 2007. The HA submitted that its audited financial submission was rejected and the HA was given 15 days to correct and resubmit the financial data. The HA submitted that as a result of a communication error, the corrections were not made and the submission was not electronically submitted to the REAC by the resubmission due date and the HA received a Late Presumptive Failure (LPF) score of zero. The HA was granted the waiver of its audited financial submission due date. The HA was charged with submitting a request for invalidation of the LPF and including a date of resubmission of its audited financial submission for FYE June 30, 2007.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.20.

Project/Activity: New Albany Housing Authority (IN012), New Albany, IN.

Nature of Requirement: The objective of this regulation is to determine whether a housing authority (HA) is meeting the standard of decent, safe, sanitary, and in good repair. The Real Estate Assessment Center (REAC) provides for an independent physical inspection of a HA's property of properties that includes a statistically valid sample of the units.

Granted by: Paula O. Blunt, General Deputy Assistant Secretary for Public and Indian Housing.

Date Granted: April 30, 2008.

Reason Waived: The HA requested a waiver from physical inspections for fiscal year ending March 31, 2008, due to extensive damages caused by a tornado which occurred February 5, 2008. The circumstances surrounding the waiver request were unusual and beyond the HA's control. Accordingly, no physical inspections would be conducted in fiscal year 2008.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.35(a), part 902 Subpart D.

Project/Activity: Housing Authority for the City of Reno, (NV001), Reno, NV.

Nature of Requirement: The referenced regulations establish requirements for (1) financial reporting, (2) annual certification of management operations and (3) resident satisfaction surveys.

Granted by: Paula O. Blunt, General Deputy Assistant Secretary for Public and Indian Housing.

Date Granted: April 1, 2008.

Reason Waived: The Housing Authority of the City of Reno (HA) requested and was granted a waiver of excess reserves requirement in the calculation of its 2007 Financial Assessment Subsystem (FASS) under the Public Housing Assessment System (PHAS), because it intends to use the excess non-public reserves to expand affordable housing once market conditions improve. The HA also was granted a waiver to have more resources to concentrate on organizational, procedural, and software changes to convert to asset management. The HA was granted a waiver from the requirements of 24 CFR 902.60(d), to submit a management operations certification, and 24 CFR 902.60(e), from the resident satisfaction survey, for the fiscal year ending September 30, 2007. HUD will carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60 (d) and 24 CFR 902.60 (e).

Project/Activity: Oklahoma City Housing Authority (OK002), Oklahoma, OK.

Nature of Requirement: The referenced regulations establish requirements for (1) annual certification of management operations and (2) resident satisfaction surveys.

Granted by: Paula O. Blunt, General Deputy Assistant Secretary for Public and Indian Housing.

Date Granted: June 10, 2008.

Reason Waived: The Oklahoma City Housing Authority (HA) requested a waiver to have more resources to concentrate on organizational, procedural and software changes to convert to asset management. The HA was granted a waiver from the requirements of 24 CFR 902.60(d), to submit a management operations certification, and 24 CFR 902.60(e), from the resident satisfaction survey, for the fiscal year ending September 30, 2007. HUD will carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 941.306(b) and (c).

Project/Activity: Housing Authority of East Baton Rouge Parish (EBRHA) request to waive Total Development Cost (TDC) limit and Housing Construction Costs (HCC) for Phase I of East Boulevard/Oklahoma Street HOPE VI Grant LA48URD003I102.

Nature of Requirement: The regulations at 24 CFR 941.306(b) and (c) require that public housing capital assistance may not be used to pay for housing construction costs and community renewal costs in excess of the HUD determined TDC and HCC limit.

Granted by: Paula O. Blunt, General Assistant Secretary, Public and Indian Housing.

Date Granted: June 10, 2008.

Reason Waived: HUD completed its review of EBRHA's request for a waiver of 24 CFR 941.306(b) and (c) for Phase I of the rental and homeownership development for the East Boulevard/Oklahoma Street HOPE VI project. EBRHA was not able to anticipate the escalating costs associated with construction after Hurricane Katrina and therefore lost the opportunity to apply for a TDC waiver under the PIH Notice in the Federal Register of “Regulatory and Administrative Waivers Granted for Public and Indian Housing Programs to Assist with Recovery and Relief in Hurricanes Katrina, Rita and Wilma Disaster Areas.” This notice provided the ability for housing authorities impacted by these hurricanes to receive a waiver of TDC. Based upon documentation submitted by EBRHA and recognizing the severe impact Hurricane Katrina had on construction in the Gulf Coast area and in accordance with the authority at 24 CFR 5.110, HUD approved the waiver of 24 CFR 941.306(b) and (c) for Phase I of the East Boulevard/Oklahoma Street HOPE VI project.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.610(a)(1)-(a)(7).

Project/Activity: Danville Redevelopment and Housing Authority (DRHA) request to waive HUD review of certain legal documents for the Liberty Square HOPE VI project, Blaine Square (Phase IV) Mixed-Finance Project in Danville, VA.

Nature of Requirement: The regulation at 24 CFR 941.610(a)(1) and (a)(7) require HUD review and approval of certain legal documents related to mixed-finance development before closing can occur and public housing funds can be released.

Granted by: Paula O. Blunt, General Assistant Secretary, Public and Indian Housing

Date Granted: April 4, 2008.

Reason Waived: Under the waiver, the documents addressed by the regulation no longer need to be submitted to HUD for review. In lieu of HUD's review of these documents, and before public housing funds can be released, DRHA must submit documentation which certifies, in form specified by HUD, to the accuracy and authenticity of the legal documents detailed in § 941.610, paragraphs (a)(1)-(a)(7). Granting a waiver of HUD's review allows DRHA to certify to the validity of certain legal documents and streamlines the review process and expedites closing and public housing production.

Additionally, the partners involved with the Blaine Square project are basically the same as those involved in earlier phases of the Liberty Square HOPE VI project. DRHA is the developer and sole lender for the project. Centerline Capital Group was the investor in the previous phase of the Liberty Square project. Clement Wheatley has severed as local counsel on all phases of Liberty Square. Cornerstone Housing, LLC previously served as the developer for all earlier phases of the Liberty Square project. Reno & Cavanaugh has extensive experience with HOPE VI throughout the country and has closed over 100 mixed-finance transactions. Given the parties involved in Blaine Square are the same as with previous phases of the Liberty Square project, the documents used in previous phases will be used in Blaine Square. These were previously approved by HUD. Blaine Square project includes Low Income Housing Tax Credits (LIHTC). The review process and financial control mechanisms associated with LIHTCs are extensive. HUD review would repeat and duplicate the activities which these processes are already performing.

Contact: Dominique Blom, Deputy Assistant Secretary for the Office of Public Housing Investments, Department of Housing and Urban Development, 451 Seventh Street, SW., Room 4130, Washington, DC 20140-5000, telephone (202) 402-4181.

• Regulation: 24 CFR 941.610 (a)(1)-(a)(7).

Project/Activity: Greenville Housing Authority (GHA) request to waive HUD review of certain legal documents for the Jesse Jackson Townhomes HOPE VI project, Clark Street Commons Phase V Mixed-Finance project in Greenville, SC.

Nature of Requirement: The regulation at 24 CFR 941.610(a)(1) and (a)(7) require HUD review and approval of certain legal documents related to mixed-finance development before closing can occur and public housing funds can be released.

Granted by: Paula O. Blunt, General Assistant Secretary for Public and Indian Housing.

Date Granted: April 8, 2008.

Reason Waived: Under the waiver, the documents addressed by the regulation no longer need to be submitted to HUD for review. In lieu of HUD's review of these documents, and before public housing funds can be released, GHA must submit documentation which certifies, in form specified by HUD, to the accuracy and authenticity of the legal documents detailed in § 941.610, paragraphs (a)(1)-(a)(7). Granting a waiver of HUD's review allows GHA to certify to the validity of certain legal documents and streamlines the review process and expedites closing and public housing production.

Additionally, GHA is a housing authority with extensive development and mixed-finance experience. The other development partners in the project are also experienced in public housing mixed-finance development. Clark Street Commons is a mixed-finance transaction, and as such, includes HOPE VI, Low Income Housing Tax Credits, and private mortgage funds. The review process and financial control mechanisms associated with Low Income Housing Tax Credits are extensive. The private sector mortgage lender also reviews the project's financial and project documents. HUD review would repeat and duplicate the activities which these processes are already performing. Clark Street Commons project is very similar to one of the previous projects, Nichol Town Green Phase IV undertaken by GHA, which underwent full evidentiary document review and approval by HUD. The Developer will be TCG Greenville, LLP, as it was for the Nichol Town Green project. The investor partner, attorneys, and financial advisors will remain the same and Sun America again will provide construction financing.

Contact: Dominique Blom, Deputy Assistant Secretary for the Office of Public Housing Investments, Department of Housing and Urban Development, 451 Seventh Street, SW., Room 4130, Washington, DC 20140-5000, telephone (202) 402-4181.

• Regulation: 24 CFR 941.610 (a)(1)-(a)(7).

Project/Activity: Tacoma Housing Authority (THA) request to waive HUD review of certain legal documents for the HOPE VI Salishan project, Salishan Five Mixed-Finance development.

Nature of Requirement: The regulation at 24 CFR 941.610(a)(1) and (a)(7) require HUD review and approval of certain legal documents related to mixed-finance development before closing can occur and public housing funds can be released.

Granted by: Paula O. Blunt, General Assistant Secretary, Public and Indian Housing.

Date Granted: April 30, 2008.

Reason Waived: Under the waiver, the documents addressed by the regulation no longer need to be submitted to HUD for review. In lieu of HUD's review of these documents, and before public housing funds can be released, THA must submit documentation which certifies, in form specified by HUD, to the accuracy and authenticity of the legal documents detailed in § 941.610, paragraphs (a)(1)-(a)(7). Granting a waiver of HUD's review allows THA to certify to the validity of certain legal documents and streamlines the review process and expedites closing and public housing production.

Additionally, THA is a high performing housing authority with extensive development and mixed-finance experience. Salishan Five is a near duplicate of Salishan One, Two, Three, and Four. All evidentiary documents for Salishan One and Two were thoroughly reviewed and approved by HUD. Salishan Three and Four both received a waiver of evidentiary review.

Contact: Dominique Blom, Deputy Assistant Secretary for the Office of Public Housing Investments, Department of Housing and Urban Development, 451 Seventh Street, SW., Room 4130, Washington, DC 20140, telephone (202) 402-4181.

• Regulation: 24 CFR 982.306(d).

Project Activity: Aberdeen Housing and Redevelopment Commission (AHRC), Aberdeen, SD. The AHRC requested a waiver regarding renting to relatives under the Housing Choice Voucher (HCV) program so that an applicant with no disabled family members could lease in place.

Nature of Requirement: Section 982.306(d) states that a public housing agency (PHA) must not approve a unit if the owner is the parent, child, grandparent, grandchild, sister or brother of any member of the assisted family unless such approval would provide a reasonable accommodation for a family member who is a person with disabilities.

Granted by: Paula O. Blunt, General Deputy Assistant Secretary for Public and Indian Housing.

Date Granted: April 9, 2008.

Reason Waived: The waiver was granted because HCV applicant going through a divorce with children attending school in a small community in South Dakota, where the children wished to remain while the applicant was renting a unit from a relative. In addition, there was a very limited supply of rental housing units in this area.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of Washington County (HAWC), Washington County, MD. The HAWC requested a waiver regarding exception payment standards under the Housing Choice Voucher (HCV) program so that it could provide a reasonable accommodation to a person with disabilities.

Nature of Requirements: Section 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: April 9, 2008.

Reason Waived: The HCV applicant, who is a person with multiple disabilities, was allowed to lease in place in a unit that had been modified with state funds under the Maryland Medicaid Living at Home Waiver Program to meet his needs. To provide a reasonable accommodation so that this applicant would pay no more than 40 percent of adjusted income toward the family share, the HAWC was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project Activity: San Antonio Housing Authority (SAHA), San Antonio, TX. The SAHA requested a waiver of payment standard (PS) requirements to permit it to implement reduced PSs earlier than required to avoid termination of housing assistance payments (HAP) contracts during calendar year 2008 due to insufficient funding.

Nature of Requirement: Section 982.505(c)(3) states that if the amount on the PS schedule is decreased during the term of the HAP contract, the lower PS amount generally must be used to calculate the monthly HAP for the family beginning at the effective date of the family's second regular reexamination following the effective date of the decrease.

Granted by: Paula O. Blunt, General Deputy Assistant Secretary for Public and Indian Housing.

Date Granted: June 20, 2008.

Reason Waived: The waiver was granted because this cost-saving measure would enable the SAHA to both manage its Housing Choice Voucher program within allocated budget authority and avoid the termination of HAP contracts due to insufficient funding.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 990.185(a).

Project/Activity: New Bedford Housing Authority (NBHA), Massachusetts.

Nature of Requirement: The Energy Policy Act of 2005 amended section 9(e)(2)(C) of the Housing Act of 1937 by changing the contract period from 12 to 20 years, yet HUD's regulation 24 CFR 990.185(a) has not yet been conformed to the statutory period and reflects a maximum period of 12 years.

Granted by: Paula O. Blunt, General Deputy Assistant Secretary for Public and Indian Housing.

Date Granted: May 22, 2008.

Reason Waived: The NBHA is undertaking an energy project and anticipates energy conservation measures with life cycle expectations and costs that would exceed the 12-year regulatory limitation in 24 CFR 990.185(a). Based upon the anticipated savings and benefits to NBHA and its residents, the waiver granted a longer repayment period, contingent on HUD's provisions, including additional information and technical activity requirements. However, NBHA must comply with all of HUD's provisions for the waiver to be effective.

Contact: Nicole Faison, Director, Office of Public Housing Programs, Office of Public and Indian Housing, Department of Housing and Urban Development, 451 Seventh Street, SW., Room 4226, Washington, DC 20410-5000, telephone (202) 708-0744.

• Regulation: 24 CFR 990.185(a).

Project/Activity: Bridgeport Housing Authority (BHA), Bridgeport, CT.

Nature of Requirement: The Energy Policy Act of 2005 amended section 9(e)(2)(C) of the Housing Act of 1937 by changing the contract period from 12 to 20 years, yet HUD's regulation 24 CFR 990.185(a) has not yet been conformed to the statutory period and reflects a maximum period of 12 years.

Granted by: Paula O. Blunt, General Deputy Assistant Secretary for Public and Indian Housing.

Date Granted: May 22, 2008.

Reason Waived: BHA is undertaking an energy project and anticipates energy conservation measures with life cycle expectations and costs that would exceed the 12-year regulatory limitation in 24 CFR 990.185(a). Based upon the anticipated savings and benefits to BHA and its residents, the waiver grants a longer repayment period, contingent on HUD's provisions, including additional information and technical activity requirements. However, BHA must comply with all of HUD's provisions for the waiver to be effective.

Contact: Nicole Faison, Director, Office of Public Housing Programs, Office of Public and Indian Housing, Department of Housing and Urban Development, 451 Seventh Street, SW., Room 4226, Washington, DC 20410-5000, telephone (202) 708-0744.

[FR Doc. E8-22141 Filed 9-22-08; 8:45 am]

BILLING CODE 4210-67-P